FEDERAL COMMUNICATIONS COMMISSION

47 CFR Part 43

[IB Docket No. 04-112; Report No. 2981]

Petition for Reconsideration of Action in Rulemaking Proceeding

AGENCY: Federal Communications Commission.

ACTION: Petition for reconsideration.

SUMMARY: In this document, a Petition for Reconsideration (Petition) has been filed in the Commission's Rulemaking proceeding by Glenn S. Richards, on behalf of the Voice on the Net (VON) Coalition.

DATES: Oppositions to the Petition must be filed on or before July 16, 2013. Replies to an opposition must be filed on or before July 26, 2013.

ADDRESSES: Federal Communications Commission, 445 12th Street SW., Washington, DC 20554.

FOR FURTHER INFORMATION CONTACT: David Krech (202) 418-7443 or John Copes (202) 418-1478, Policy Division, International Bureau.

SUPPLEMENTARY INFORMATION: This is a summary of Commission's document, Report No. 2981, released June 5, 2013. The full text of Report No. 2981 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Reporting Requirements for U.S. Providers of International Telecommunications Services; Amendment of Part 43 of the Commission's Rules, Second Report and Order, FCC 13-6, published at 78 FR 15615, March 12, 2013, in IB Docket No. 04-112, and published pursuant to 47 CFR 1.429(e). See also 1.4(b)(1) of the Commission's rules.

Number of Petitions Filed: 1.

Federal Communications Commission.
Marlene H. Dortch,
Secretary, Office of the Secretary, Office of Managing Director.

[FR Doc. 2013-15683 Filed 6-28-13; 8:45 am]

BILLING CODE 6712-01-P